DEPARTMENT OF ENERGY

Federal Energy Regulatory Commission

[Docket Nos. EL17-67-000]

New York Power Authority; New York Independent System Operator, Inc.; Notice of Institution of Section 206 Proceeding

On April 21, 2017, a letter order was issued in Docket No. EL17-67-000 by the Director, Division of Electric Power—East, Office of Energy Market Regulation, pursuant to section 206 of the Federal Power Act (FPA), 16 U.S.C. 824e (2012), instituting an investigation into whether the updated depreciation rates of New York Power Authority, which were included in New York Independent System Operator, Inc.'s Open Access Transmission Tariff may be unjust, unreasonable, unduly discriminatory or preferential. New York Power Authority and New York Independent System Operator, Inc., 159 FERC 62,075 (2017).

Any interested person desiring to be heard in Docket No. EL17-67-000 must file a notice of intervention or motion to intervene, as appropriate, with the Federal Energy Regulatory Commission, 888 First Street NE., Washington, DC 20426, in accordance with Rule 214 of the Commission's Rules of Practice and Procedure, 18 CFR 385.214, within 21 days of the date of issuance of the order.

Dated: April 21, 2017.
Kimberly D. Bose,
Secretary.

[FR Doc. 2017-08574 Filed 4-27-17; 8:45 am]

BILLING CODE 6717-01-P